DEPARTMENT OF JUSTICE

Notice of Lodging of Proposed Consent Decree Under the Comprehensive Environmental Response, Compensation and Liability Act

On April 16, 2013, the Department of Justice lodged a proposed consent decree with the United States District Court for the District of New Jersey in the lawsuit entitled United States v. D.S.C. of Newark Enterprises, Inc., Civil Action No. 3:09-CV-02270.

This consent decree resolves the CERCLA Section 107 complaint filed against D.S.C. of Newark Enterprises, Inc. (“D.S.C.”), at the Friction Division Products Superfund Site in Lawrence Township, Mercer County, New Jersey. The United States incurred response costs relating to hazardous substances, including asbestos, which were released at the Site during defendant D.S.C.'s ownership of the Site. The consent decree provides for D.C.S. to pay the United States $1,562,500 for Past Response Costs incurred at the Site, plus interest that accrues on this amount since January 15, 2013. The payment by D.S.C. will recover approximately 92% of EPA's Past Response Costs at the Site.

The publication of this notice opens a period for public comment on the consent decree. Comments should be addressed to the Assistant Attorney General, Environment and Natural Resources Division, and should refer to United States v. D.S.C. of Newark Enterprises, Inc., D.J. Ref. No. 90-11-3-09675. All comments must be submitted no later than thirty days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $4.25 (25 cents per page reproduction cost) payable to the United States Treasury.

Brian Donohue,
Acting Assistant Section Chief, Environmental Enforcement Section, Environment and Natural Resources Division.

[FR Doc. 2013-09298 Filed 4-19-13; 8:45 am]

BILLING CODE P